DEPARTMENT OF LABOR

Employment and Training Administration

[TA-W-70,326]

Ford Motor Company, Dearborn Truck Plant; Dearborn, MI; Notice of Affirmative Determination Regarding Application for Reconsideration

By application dated September 18, 2009, a petitioner requested administrative reconsideration of the negative determination regarding workers' eligibility to apply for Trade Adjustment Assistance (TAA) and Alternative Trade Adjustment Assistance (ATAA) applicable to workers and former workers of the subject firm. The determination was issued on August 14, 2009. The Notice of Determination was published in the Federal Register on September 22, 2009 (74 FR 48302).

The initial investigation resulted in a negative determination based on the finding that imports of Ford F Series pickups and Lincoln Mark LT sports-utility pickups did not contribute importantly to worker separations at the subject firm. The investigation revealed that the subject firm did not shift production of Ford F Series pickups and Lincoln Mark LT sports-utility pickups to foreign countries during the period under investigation.

In the request for reconsideration, the petitioner alleged that employment at the subject firm was negatively impacted by a shift in production of pickups from the subject firm to South Africa, Thailand, Mexico and Canada. The petitioner also alleged that imports of directly competitive products with Ford F Series pickups contributed importantly to the decline in sales at the subject facility.

The Department has carefully reviewed the request for reconsideration and the existing record and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 29th day of September 2009.
Elliott S. Kushner,
Certifying Officer, Division of Trade Adjustment Assistance.

[FR Doc. E9-25159 Filed 10-19-09; 8:45 am]

BILLING CODE 4510-FN-P